DEPARTMENT OF HOUSING AND URBAN DEVELOPMENT

[Docket No. FR-6348-N-01]

Notice of Federal Advisory Committee Meetings; Manufactured Housing Consensus Committee

AGENCY: Office of the Assistant Secretary for Housing—Federal Housing Commissioner, Department of Housing and Urban Development (HUD).

ACTION: Notice of Federal Advisory Committee Meetings: Manufactured Housing Consensus Committee.

SUMMARY: This notice sets forth the schedule and proposed agendas for two related sets of meetings of the Manufactured Housing Consensus Committee (MHCC). The meetings are open to the public and the sites are accessible to individuals with disabilities. The two agendas provide an opportunity for citizens to comment on the business before the MHCC.

DATES: The first set of meetings will be held on October 18-19, 2022, 9 a.m. to 5 p.m. Eastern Time (ET) daily, and on October 20, 2022, 9 a.m. to 12:30 p.m. (ET). The second set of meetings will be held on November 15-16, 2022, 9 a.m. to 5 p.m. (ET) daily, and on November 17, 2022, 9 a.m. to 12:30 p.m. (ET).

ADDRESSES: The first set of meetings (October 18-20, 2022) will be held at the Holiday Inn Washington—Capitol, 550 C Street SW, Washington, DC 20024. The second set of meetings (November 15-17, 2022) will be held at the DoubleTree by Hilton Hotel, Washington, DC—Crystal City—300 Army-Navy Drive, Arlington, VA 22202.

FOR FURTHER INFORMATION CONTACT: Teresa B. Payne, Administrator, Office of Manufactured Housing Programs, Department of Housing and Urban Development, 451 7th Street SW, Room 9166, Washington, DC 20410, telephone (202) 708-6423 (this is not a toll-free number), email mhcc@hud.gov. Individuals can dial 7-1-1 to access the Telecommunications Relay Service (TRS), which permits users to make text-based calls, including Text Telephone (TTY) and Speech to Speech (STS) calls. Individuals who require an alternative aid or service to communicate effectively with HUD should email the point of contact listed above and provide a brief description of their preferred method of communication.

SUPPLEMENTARY INFORMATION:

Background

Notice of these meetings is provided in accordance with the Federal Advisory Committee Act, 5 U.S.C. App. 10(a)(2) through implementing regulations at 41 CFR 102-3.150. The MHCC was established by the National Manufactured Housing Construction and Safety Standards Act of 1974, 42 U.S.C. 5403(a)(3), as amended by the Manufactured Housing Improvement Act of 2000 (Pub. L. 106-569). According to 42 U.S.C. 5403, as amended, the purposes of the MHCC are to:

• Provide periodic recommendations to the Secretary to adopt, revise, and interpret the Federal manufactured housing construction and safety standards in accordance with this section;

• Provide periodic recommendations to the Secretary to adopt, revise, and interpret the procedural and enforcement regulations, including regulations specifying the permissible scope and conduct of monitoring in accordance with subsection (b);

• Be organized and carry out its business in a manner that guarantees a fair opportunity for the expression and consideration of various positions and for public participation.

The MHCC is deemed an advisory committee not composed of Federal employees.

Public Comment

Citizens wishing to make comments on the business of the MHCC are encouraged to register by or before Monday, October 3, 2022, for the October session and October 31, 2022, for the November session, by contacting the Administering Organization (AO), Home Innovation Research Labs; Attention: Kevin Kauffman, 400 Prince Georges Blvd., Upper Marlboro, MD 20774, or email to mhcc@homeinnovation.com or call 1-888-602-4663. Written comments are encouraged. The MHCC strives to accommodate citizen comments to the extent possible within the time constraints of the meeting agendas. Advance registration for both meetings is strongly encouraged. The MHCC will also provide an opportunity for public comment on specific matters before the MHCC.

The Department of Energy's Energy Conservation Standards for Manufactured Housing (87 FR 32728 (May 31, 2022)), which have a compliance date of May 31, 2023, do not fully align with the current Manufactured Housing Construction and Safety Standards (MHCSS). Given that manufacturers have to comply with the Department of Energy's Energy Conservation Standards for Manufactured Housing and the MHCSS, and HUD's role in regulating the manufactured housing industry, HUD considers it imperative to promptly proceed with rulemaking to align the MHCSS with the Department of Energy's Energy Conservation Standards for Manufactured Housing. To this end, HUD is scheduling two sets of meetings of the MHCC to allow discussion, analysis, and recommendation to HUD of such alignment. These meetings are scheduled for three days each to provide sufficient time for thorough consideration. HUD, therefore, strongly encourages active participation by committee members, stakeholders, and other interested parties. The Secretary's requested outcome of the meetings will be for the MHCC to propose recommended changes to the Manufactured Home Construction and Safety Standards that align with the Department of Energy's Energy Conservation Standards for Manufactured Housing. Due to the impending May 31, 2023, date for compliance with the Department of Energy's Energy Conservation Standards for Manufactured Housing, HUD requests an expeditious review timeframe ending on or about December 31, 2022, for receipt of a response to the Secretary's request and proposed revisions to the MHCSS.

Tentative Agenda for the October 2022 Meeting

Tuesday, October 18, 2022

8:30-9:00 a.m. Registration

9:00-9:05 a.m. Call to Order—Chair, Co-Chair, and Teresa Payne, Designated Federal Officer (DFO)

9:05-9:35 a.m. Welcome and Opening Remarks

A. Roll Call—Kevin Kauffman, Administering Organization (AO)

B. Introductions

Manufactured Housing Consensus Committee (MHCC) Members

U.S. Department of Housing and Urban Development (HUD) Staff

Administrative Announcements—Teresa Payne, DFO, and Kevin Kauffman, AO

Explanation of the Administrative Procedure Act (APA) and the Regulatory Process—HUD Office of General Counsel

9:35-9:40 a.m. Approve Combined Draft Minutes from September 23, October 8, October 20, and November 19, 2021, MHCC meetings

9:40-9:50 a.m. Opening Comments—Julia R. Gordon, Assistant Secretary for Housing-Federal Housing Commissioner

9:50-10:20 a.m. Public Comment Period (Public Encouraged to Sign Up in advance by contacting the AO)

10:20-10:30 a.m. Break

10:30 a.m.-12:00 p.m. Review and consideration of HUD's proposed revisions of the Manufactured Home Construction and Safety Standards to Align with the Department of Energy's Energy Conservation Standards for Manufactured Housing

12:00-1:00 p.m. Lunch

1:00-2:30 p.m. Continued review and consideration of HUD's proposed revisions of the Manufactured Home Construction and Safety Standards to Align with the Department of Energy's Energy Conservation Standards for Manufactured Housing

2:30-2:45 p.m. Break

2:45-3:00 p.m. Public Comment Period—15 minutes

3:00-4:35 p.m. Continued review and consideration of HUD's proposed revisions of the Manufactured Home Construction and Safety Standards to Align with the Department of Energy's Energy Conservation Standards for Manufactured Housing

4:35-4:50 p.m. Public Comment Period—15 minutes

4:50-5:00 p.m. Daily Wrap Up—DFO and AO

5:00 p.m. Adjourn for the Day

Wednesday, October 19, 2022

9:00-9:05 a.m. Reconvene Meeting—Chair and DFO

9:05-9:15 a.m. Roll Call—AO

9:15-9:30 a.m. Public Comment Period (Public Encouraged to Sign Up with AO or Meeting Planner)

9:30-10:45 a.m. Continued review and consideration of HUD's proposed revisions of the Manufactured Home Construction and Safety Standards to Align with the Department of Energy's Energy Conservation Standards for Manufactured Housing

10:45-11:00 a.m. Break

11:00 a.m.-12:00 p.m. Continued review and consideration of HUD's proposed revisions of the Manufactured Home Construction and Safety Standards to Align with the Department of Energy's Energy Conservation Standards for Manufactured Housing

12:00-1:00 p.m. Lunch

1:00-3:00 p.m. Continued review and consideration of HUD's proposed revisions of the Manufactured Home Construction and Safety Standards to Align with the Department of Energy's Energy Conservation Standards for Manufactured Housing

3:00-3:10 p.m. Break

3:10-3:25 p.m. Public Comment Period—15 minutes

3:25-4:35 p.m. Continued review and consideration of HUD's proposed revisions of the Manufactured Home Construction and Safety Standards to Align with the Department of Energy's Energy Conservation Standards for Manufactured Housing

4:35-4:50 p.m. Public Comment Period—15 minutes

4:50-5:00 p.m. Daily Wrap Up—DFO and AO

5:00 p.m. Adjourn for the Day

Thursday, October 20, 2022

9:00-9:05 a.m. Reconvene Meeting—Chair and DFO

9:05-9:15 a.m. Opening Remarks—Chair

Roll Call—AO

9:15-9:45 a.m. Public Comment Period (Public Encouraged to Sign Up with AO or Meeting Planner)

9:45-10:45 a.m. Continued review and consideration of HUD's proposed revisions of the Manufactured Home Construction and Safety Standards to Align with the Department of Energy's Energy Conservation Standards for Manufactured Housing

10:45-11:00 a.m. Break

11:00 a.m.-12:00 p.m. Continued review and consideration of HUD's proposed revisions of the Manufactured Home Construction and Safety Standards to Align with the Department of Energy's Energy Conservation Standards for Manufactured Housing

12:00-12:15 p.m. Public Comment Period

12:15-12:30 p.m. Daily Wrap Up—DFO and AO

12:30 p.m. Adjournment

Tentative Agenda for the November 2022 Meeting

As time allows, upon completion of the consideration of the Secretary's request to review the HUD proposed revisions of the Manufactured Home Construction and Safety Standards to Align with the Department of Energy's Energy Conservation Standards for Manufactured Housing, remaining time in the agenda in the November meeting may be used to discuss log items and subcommittee items that have not been reviewed previously or are awaiting MHCC action. The log items that may be discussed and considered in the November set of meetings include:

Proposed Changes From Previous Cycles

• 3280 Subpart H—Heating, Cooling and Fuel Burning Systems—Log 216

Proposed Changes 2022-2023 Cycle

• 3280 Subpart G—Plumbing Systems—Log 225

• 3280 Subpart D—Body and Frame Construction Requirements—Log 226

Tuesday, November 15, 2022

8:30-9 a.m. Registration

9-9:05 a.m. Call to Order—Chair, Co-Chair, and Teresa Payne, Designated Federal Officer (DFO)

9:05-9:15 a.m. Welcome and Opening Remarks

A. Roll Call—Kevin Kauffman, Administering Organization (AO)

B. Introductions

Manufactured Housing Consensus Committee (MHCC) Members

U.S. Department of Housing and Urban Development (HUD) Staff

Administrative Announcements—Teresa Payne, DFO, and Kevin Kauffman, AO

9:15-9:20 a.m. Approve Draft Minutes from October 18-20, 2022, Manufactured Housing Consensus Committee (MHCC) Meetings

9:20-9:50 a.m. Public Comment Period (Public Encouraged to Sign Up with AO or Meeting Planner)

9:50-10:50 a.m. Discussion on Department of Energy's Energy Conservation Standards for Manufactured Housing Final Rule or Review of Current Log and Action Items or Subcommittee Meetings

10:50-11 a.m. Break

11 a.m.-12 p.m. Continue review and consideration of HUD's proposed revisions of the Manufactured Home Construction and Safety Standards to Align with the Department of Energy's Energy Conservation Standards for Manufactured Housing Final Rule or Review of Current Log and Action Items or Subcommittee Meetings

12-1 p.m. Lunch

1-2:30 p.m. Continued review and consideration of HUD's proposed revisions of the Manufactured Home Construction and Safety Standards to Align with the Department of Energy's Energy Conservation Standards for Manufactured Housing Final Rule or Review of Current Log and Action Items or Subcommittee Meetings

2:30-2:45 p.m. Break

2:45-3 p.m. Public Comment Period—15 minutes

3-4:35 p.m. Continued review and consideration of HUD's proposed revisions of the Manufactured Home Construction and Safety Standards to Align with the Department of Energy's Energy Conservation Standards for Manufactured Housing Final Rule or Review of Current Log and Action Items or Subcommittee Meetings

4:35-4:50 p.m. Public Comment Period—15 minutes

4:50-5 p.m. Daily Wrap Up—DFO and AO

5 p.m. Adjourn for the Day

Wednesday, November 16, 2022

9-9:05 a.m. Reconvene Meeting—Chair and DFO

9:05-9:15 a.m. Roll Call—AO

9:15-9:30 a.m. Public Comment Period (Public Encouraged to Sign Up with AO or Meeting Planner)

9:30-10:45 a.m. Continued review and consideration of HUD's proposed revisions of the Manufactured Home Construction and Safety Standards to Align with the Department of Energy's Energy Conservation Standards for Manufactured Housing Final Rule or Review of Current Log and Action Items or Subcommittee Meetings

10:45-11 a.m. Break

11 a.m.-12 p.m. Continued review and consideration of HUD's proposed revisions of the Manufactured Home Construction and Safety Standards to Align with the Department of Energy's Energy Conservation Standards for Manufactured Housing Final Rule or Review of Current Log and Action Items or Subcommittee Meetings

12-1 p.m. Lunch

1-3 p.m. Continued review and consideration of HUD's proposed revisions of the Manufactured Home Construction and Safety Standards to Align with the Department of Energy's Energy Conservation Standards for Manufactured Housing Final Rule or Review of Current Log and Action Items or Subcommittee Meetings

3-3:10 p.m. Break

3:10-3:25 p.m. Public Comment Period—15 minutes

3:25-4:35 p.m. Continued review and consideration of HUD's proposed revisions of the Manufactured Home Construction and Safety Standards to Align with the Department of Energy's Energy Conservation Standards for Manufactured Housing Final Rule or Review of Current Log and Action Items or Subcommittee Meetings

4:35-4:50 p.m. Public Comment Period—15 minutes

4:50-5 p.m. Daily Wrap Up—DFO and AO

5 p.m. Adjourn for the Day

Thursday, November 17, 2022

9-9:05 a.m. Reconvene Meeting—Chair and DFO

9:05-9:15 a.m. Opening Remarks—Chair

Roll Call—AO

9:15-9:45 a.m. Public Comment Period (Public Encouraged to Sign Up with AO or Meeting Planner)

9:45-10:45 a.m. Continued review and consideration of HUD's proposed revisions of the Manufactured Home Construction and Safety Standards to Align with the Department of Energy's Energy Conservation Standards for Manufactured Housing Final Rule or Review of Current Log and Action Items or Subcommittee Meetings

10:45-11 a.m. Break

11 a.m.-12 p.m. Continued review and consideration of HUD's proposed revisions of the Manufactured Home Construction and Safety Standards to Align with the Department of Energy's Energy Conservation Standards for Manufactured Housing Final Rule or Review of Current Log and Action Items or Subcommittee Meetings

12-12:15 p.m. Public Comment Period

12:15-12:30 p.m. Daily Wrap Up—DFO and AO

12:30 p.m. Adjournment

Julia R. Gordon,
Assistant Secretary for Housing—Federal Housing Commissioner.

[FR Doc. 2022-20429 Filed 9-20-22; 8:45 am]

BILLING CODE 4210-67-P